DEPARTMENT OF COMMERCE

International Trade Administration

[A-351-828]

Certain Hot-Rolled Carbon Steel Flat Products from Brazil: Notice of Final Rescission of Antidumping Duty Administrative Review

AGENCY: Import Administration, International Trade Administration, Department of Commerce.

SUMMARY: The Department of Commerce (the Department) has determined that the antidumping duty administrative review for the period March 1, 2004, through February 28, 2005, of Companhia Siderurgica Nacional (CSN) and Companhia Siderurgica de Tubarao (CST) should be rescinded.

EFFECTIVE DATE: November 15, 2005.

FOR FURTHER INFORMATION CONTACT: Helen Kramer or Kristin Najdi, Office 7, AD/CVD Operations, Import Administration, International Trade Administration, U.S. Department of Commerce, 14th Street and Constitution Avenue, NW., Washington, DC 20230; telephone: (202) 482-0405 and (202) 482-8221, respectively.

SUPPLEMENTARY INFORMATION:

Background

On March 1, 2005, the Department published a notice of opportunity to request an administrative review of the antidumping duty order on certain hot-rolled carbon steel flat products from Brazil for the period of review (POR) of March 1, 2004, through February 28, 2005. See Notice of Opportunity to Request Administrative Review of Antidumping Duty Order, Finding or Suspended Investigation, 70 FR 9918 (March 1, 2005). On March 31, 2005, United States Steel Corporation (USSC) and Nucor Corporation (Nucor), domestic producers of the subject merchandise, made timely requests that the Department conduct an administrative review of CSN and CST. On April 22, 2005, in accordance with section 751(a) of the Tariff Act of 1930 as amended (the Act), the Department published in the Federal Register a notice of initiation of this antidumping duty administrative review. See Notice of Initiation of Antidumping Duty and Countervailing Duty Administrative Reviews, 70 FR 20862 (April 22, 2005). On April 28, 2005, the Department issued its antidumping duty questionnaire to CSN and CST. Both CSN and CST requested rescission of this administrative review, CSN certifying that there were no shipments or entries of subject merchandise during the POR, and CST certifying that the only shipments or entries it had during the POR were being reviewed by the Department as part of a new shipper review. On October 7, 2005, after conducting an internal customs data query to confirm these certifications, the Department published in the Federal Register its notice of intent to rescind this administrative review, and invited comments from interested parties. See Certain Hot-Rolled Carbon Steel Flat Products from Brazil: Notice of Intent to Rescind Administrative Review, 70 FR 58680 (October 7, 2005) (Notice of Intent to Rescind). The Department did not receive comments from any interested party.

Scope of the Order

For purposes of this order, the products covered are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm, but not exceeding 1250 mm and of a thickness of not less than 4 mm, not in coils and without patterns in relief) of a thickness not less than 4.0 mm is not included within the scope of this order.

Specifically included in this scope are vacuum degassed, fully stabilized (commonly referred to as interstitial-free (IF)) steels, high strength low alloy (HSLA) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum.

Steel products to be included in the scope of this order, regardless of Harmonized Tariff Schedule of the United States (HTSUS) definitions, are products in which: (1) iron predominates, by weight, over each of the other contained elements; (2) the carbon content is 2 percent or less, by weight; and (3) none of the elements listed below exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this order unless otherwise excluded. The following products, by way of example, are outside and/or specifically excluded from the scope of this order:

• Alloy hot-rolled steel products in which at least one of the chemical elements exceeds those listed above (including e.g., ASTM specifications A543, A387, A514, A517, and A506).

• SAE/AISI grades of series 2300 and higher.

• Ball bearing steels, as defined in the HTSUS.

• Tool steels, as defined in the HTSUS.

• Silico-manganese (as defined in the HTSUS) or silicon electrical steel with a silicon level exceeding 1.50 percent.

• ASTM specifications A710 and A736.

• USS Abrasion-resistant steels (USS AR 400, USS AR 500).

• Hot-rolled steel coil which meets the following chemical, physical and mechanical specifications:

C | Mn | P | S | Si | Cr | Cu | Ni
0.10- | 0.90% | 0.025% | 0.005% | 0.30- | 0.30- | 0.20- | 0.20%
0.14% | Max | Max | Max | 0.50% | 0.50% | 0.40% | Max

Width = 44.80 inches maximum; Thickness = 0.063-0.198 inches; Yield Strength = 50,000 ksi minimum; Tensile Strength = 70,000-88,000 psi.

• Hot-rolled steel coil which meets the following chemical, physical and mechanical specifications:

C | Mn | P | S | Si | Cr | Cu | Ni
0.10- | 0.70 - | 0.025% | 0.006% | 0.30 - | 0.30 - | 0.25% | 0.20%
0.16% | 0.90% | Max | Max | 0.50% | 0.50% | Max | Max
Mo
0.21%
Max

Width = 44.80 inches maximum; Thickness = 0.350 inches maximum; Yield Strength = 80,000 ksi minimum; Tensile Strength = 105,000 psi Aim.

• Hot-rolled steel coil which meets the following chemical, physical and mechanical specifications:

C | Mn | P | S | Si | Cr | Cu | Ni
0.10- | 1.30 - | 0.025% | 0.005% | 0.30 - | 0.50 - | 0.20 - | 0.20%
0.14% | 1.80% | Max | Max | 0.50% | 0.70% | 0.40% | Max
V(wt) | Cb
0.10% | 0.08%
Max | Max

Width = 44.80 inches maximum; Thickness = 0.350 inches maximum; Yield Strength = 80,000 ksi minimum; Tensile Strength = 105,000 psi Aim.

• Hot-rolled steel coil which meets the following chemical, physical and mechanical specifications:

C | Mn | P | S | Si | Cr | Cu | Ni
0.15% | 1.40% | 0.025% | 0.010% | 0.50% | 1.00% | 0.50% | 0.20%
Max | Max | Max | Max | Max | Max | Max | Max
Nb | Ca | Al
0.005% | Treated | 0.01 -
Min | - | 0.70%

Width = 39.37 inches; Thickness = 0.181 inches maximum; Yield Strength = 70,000 psi minimum for thickness # 0.148 inches and 65,000 psi minimum for “thicknesses” > 0.148 inches; account for 64 FR 38650; Tensile Strength = 80,000 psi minimum.

• Hot-rolled dual phase steel, phase-hardened, primarily with a ferritic-martensitic microstructure, contains 0.9 percent up to and including 1.5 percent silicon by weight, further characterized by either (i) tensile strength between 540 N/mm² and 640 N/mm² and an elongation percentage ≥ 26 percent for thicknesses of 2 mm and above, or (ii) a tensile strength between 590 N/mm² and 690 N/mm² and an elongation percentage ≥ 25 percent for thicknesses of 2 mm and above.

• Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

• Grade ASTM A570-50 hot-rolled steel sheet in coils or cut lengths, width of 74 inches (nominal, within ASTM tolerances), thickness of 11 gauge (0.119 inch nominal), mill edge and skin passed, with a minimum copper content of 0.20%.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00. Certain hot-rolled flat-rolled carbon-quality steel covered by this order, including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and Customs purposes, the written description of the merchandise under this order is dispositive.

Rescission of Administrative Review

On October 7, 2005, the Department published in the Federal Register its intent to rescind the administrative review. As noted above, CSN certified that it did not have any shipments or entries of subject merchandise during the POR and CST certified that the only shipments or entries of subject merchandise it had during the POR were being reviewed by the Department as part of a new shipper review of CST for the period March 1, 2004, through August 31, 2004. See Notice of Intent to Rescind. The Department conducted an internal customs data query to confirm that CSN had no entries of subject merchandise into the United States during the POR, and that CST had no entries of subject merchandise other than those already being reviewed as part of the new shipper review. The customs data showed no entries of subject merchandise by CSN during the POR, and no additional entries by CST that should be reviewed. We invited interested parties to comment on our intent to rescind the administrative review; no comments were submitted.

Therefore, in accordance with 19 CFR 351.213(d)(3), we are rescinding this review for CSN based on our determination that this company did not have entries of subject merchandise during the POR. Pursuant to 19 CFR 315.214(j), we are rescinding this review for CST because any entries of subject merchandise during the POR are already being reviewed by the Department as part of a new shipper review. This review was requested for only these two companies.

We are issuing this notice in accordance with section 751(a)(1) of the Act and 19 CFR 351.213(d)(4).

Dated: November 8, 2005.
Stephen J. Claeys,
Deputy Assistant Secretary for Import Administration.

[FR Doc. E5-6299 Filed 11-14-05; 8:45 am]

BILLING CODE 3510-DS-S